NUCLEAR REGULATORY COMMISSION

[Docket Nos. 50-445-LR; 50-446-LR]

In the Matter of Vistra Operations Company, LLC (Comanche Peak Nuclear Power Plant, Units 1 and 2); Order

The Nuclear Regulatory Commission (NRC) has before it an application filed by Vistra Operations Company, LLC, to renew its licenses for Comanche Peak Nuclear Power Plant, Units 1 and 2. By Federal Register notice dated December 1, 2022, the NRC provided an opportunity to request a hearing and petition for leave to intervene with respect to the license renewal application.¹ The notice stated that requests for a hearing must be filed by January 30, 2023.

¹ Vistra Operations Co., LLC; Comanche Peak Nuclear Power Plant, Units 1 and 2, 87 FR 73,798 (Dec. 1, 2022) (Hearing Notice).

Ms. Karen Hadden, on behalf of SEED Coalition, requested a ninety-day extension to the January 30, 2023, deadline for all members of the public to request a hearing and petition to intervene.² In addition, Ms. Hadden raised several concerns regarding the conduct of the NRC Staff's public meeting held in January 2023. Given the barriers to participation during the public meeting articulated by the requestor, I refer these concerns, as well as associated requests to extend the environmental scoping comment period, to the NRC Staff for its review and response, consistent with my earlier order in this matter.³

² Email from Karen Hadden to Hearing Docket, NRC (Jan. 30, 2023).

³ Order (Granting Requests for Extension of Time) (Jan. 30, 2023) (unpublished) (referring similar concerns to the NRC Staff).

Pursuant to the authority delegated to me by the Commission on February 3, 2023, I extend the deadline for all persons to file a hearing request until March 1, 2023. Petitions to intervene and requests for hearing should be filed consistent with the Supplementary Information section of the Hearing Notice.⁴

⁴ See Hearing Notice, 87 FR at 73,799-73,800 (Dec. 1, 2022).

It is so ordered.

For the Commission.
Dated at Rockville, Maryland, this 6th day of February 2023.
Brooke P. Clark,
Secretary of the Commission.

[FR Doc. 2023-02784 Filed 2-8-23; 8:45 am]

BILLING CODE P